DEPARTMENT OF HEALTH AND HUMAN SERVICES

National Institutes of Health

Request for Information (RFI): Inviting Comments and Suggestions on an ODS Strategic Plan 2022-2026

AGENCY: National Institutes of Health, HHS.

ACTION: Request for information.

SUMMARY: Since its inception in 1994, the National Institutes of Health (NIH), Office of Dietary Supplements (ODS) has used a structured planning process to develop five-year strategic plans. ODS is committed to engaging its stakeholders including representatives of the scientific community, industry, other federal agencies, and the public in the strategic planning process by soliciting their comments on the draft ODS Strategic Plan for Fiscal Years (FY) 2022-2026. Considering comments from representative stakeholder groups, and the general public will help ODS assess the outcomes of its investments and prioritize plans for the next five years.

DATES: The RFI is open for public comments and must be received by 11:59:59 p.m. (ET) on August 31, 2022, to ensure consideration.

ADDRESSES: All comments must be submitted electronically to odsplan@od.nih.gov.

FOR FURTHER INFORMATION CONTACT: Please direct all inquiries to: Barbara Cohen at ODSplan@od.nih.gov or (301) 435-2920.

SUPPLEMENTARY INFORMATION: This notice is in accordance with the 21st Century Cures Act, wherein NIH institutes are required to regularly update their strategic plans. The purpose of the FY 2022-2026 ODS Strategic Plan (https://ods.od.nih.gov/About/StrategicPlan.aspx) is to communicate how ODS will advance its mission to support, coordinate, and disseminate the results of scientific research, and provide leadership to help expand the knowledge, scientific evidence, and understanding of dietary supplements, thus fostering an enhanced quality of life and health for the U.S. population. The plan articulates ODS' priorities in five key areas (goals):

(1) Expand the scientific knowledge base on dietary supplements by stimulating and supporting a full range of biomedical research and by developing and contributing to relevant initiatives, workshops, meetings, and conferences;

(2) Enhance the dietary supplement research workforce through training and career development and simultaneously support the development of programs for diverse researchers who are underrepresented in science;

(3) Foster development and dissemination of research resources and tools to enhance the quality of dietary supplement research;

(4) Translate dietary supplement research findings into useful information for consumers, health professionals, researchers, and policymakers; and

(5) Coordinate and support the development of collaborative initiatives to address gaps in dietary supplement research.

ODS has completed a draft of its Five-Year Strategic Plan for FY 2022-2026 (https://ods.od.nih.gov/About/StrategicPlan.aspx) and is interested in receiving feedback from all interested parties on the following:

• Are there additional emerging public health issues that ODS can help address?

• Are there existing knowledge gaps that ODS can help address (not included in the current plan)?

• What can ODS do better to meet the needs of its stakeholders?

ODS encourages organizations to submit a single response reflective of the views of the organization as a whole.

Responses to this RFI are voluntary and may be submitted anonymously. Please do not include any personally identifiable information or any information that you do not wish to make public. Proprietary, classified, confidential, or sensitive information should not be included in your response. The NIH will use the information submitted in response to this RFI at its discretion. The NIH reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

We look forward to your input and hope that you will share this RFI opportunity with your colleagues.

Dated: July 22, 2022.
Tara A. Schwetz,
Acting Principal Deputy Director, National Institutes of Health.

[FR Doc. 2022-16152 Filed 7-27-22; 8:45 am]

BILLING CODE 4140-01-P